DEPARTMENT OF ENERGY

Federal Energy Regulatory Commission

[Project No. 14430-000]

Monroe Hydro LLC; Notice of Preliminary Permit Application Accepted for Filing and Soliciting Comments, Motions To Intervene, and Competing Applications

On July 2, 2012, Monroe Hydro LLC filed an application for a preliminary permit, pursuant to section 4(f) of the Federal Power Act (FPA), proposing to study the feasibility of the Monroe Water Project to be located on the North Unit Irrigation District's Main Canal, near Culver, Jefferson County, Oregon. The sole purpose of a preliminary permit, if issued, is to grant the permit holder priority to file a license application during the permit term. A preliminary permit does not authorize the permit holder to perform any land-disturbing activities or otherwise enter upon lands or waters owned by others without the owners' express permission.

The North Unit Irrigation Project is operated by the U.S. Department of the Interior, Bureau of Reclamation for irrigation purposes. The proposed project would study the hydropower potential of the existing Monroe Drop on the Main Canal, which consists of a concrete, uncontrolled fixed crest dam about 15 feet long. The proposed project would consist of a new powerhouse and an associated intake channel and tailrace channel on the northwestern side of the canal. A concrete powerhouse would enclose a single turbine-generating unit with a capacity of 300 kilowatts. The estimated annual generation of the project would be 1.0 gigawatt-hour.

Applicant Contact: Ms. Gia Schneider, Natel Energy, 2175 Monarch Street, Alameda, California 94501; phone: (510) 342-5269.

FERC Contact: Mary Greene at mary.greene@ferc.gov; phone: (202)502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14430) in the docket number field to access the document. For assistance, contact FERC Online Support.

Dated: January 7, 2013.
Kimberly D. Bose,
Secretary.

[FR Doc. 2013-00636 Filed 1-14-13; 8:45 am]

BILLING CODE 6717-01-P